DEPARTMENT OF COMMERCE

National Oceanic and Atmospheric Administration

[I.D. 110606D]

Marine Mammals; File Nos. 782-1719, 1071-1770

AGENCY: National Marine Fisheries Service (NMFS), National Oceanic and Atmospheric Administration (NOAA), Commerce.

ACTION: Notice; issuance of permit amendments.

SUMMARY: Notice is hereby given that NMFS, National Marine Mammal Laboratory (NMML), 7600 Sand Point Way, NE, Seattle, WA 98102 has been issued an amendment to scientific research Permit No. 782-1719-03 and that The Dolphin Institute (Adam A. Pack, Ph.D., Principal Investigator), 420 Ward Avenue, Suite 212, Honolulu, HI 96814 has been issued an amendment to scientific research Permit No. 1071-1770-01.

ADDRESSES: The amendment and related documents are available for review upon written request or by appointment in the following office(s): (see SUPPLEMENTARY INFORMATION).

FOR FURTHER INFORMATION CONTACT: Amy Hapeman or Carrie Hubard, (301)713-2289.

SUPPLEMENTARY INFORMATION: On February 17, 2005 and March 1, 2005, notice was published in the Federal Register (70 FR 8076) and (70 FR 9928), respectively, that requests to take marine mammals for scientific research had been submitted by the above-named institutions. The requested amendments have been granted under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Permit No. 782-1719-04, issued to NMML (John Bengtson, Principal Investigator), allows takes of all species of cetaceans under NMFS jurisdiction during stock assessment activities throughout U.S. territorial waters and the high seas of the North Pacific Ocean, Southern Ocean, Arctic Ocean, and the territorial waters of Mexico (Gulf of California only), Canada, Russia, Japan, and the Philippines. This permit has been amended to increase the number of bowhead whales (Balaena mysticetus) approached during aerial surveys to 11,000, biopsy sampled to 100, and tagged to 25 in the North Pacific and Arctic Oceans. The amendment also permits the Holder to conduct limited biopsy sampling of several species of large whale calves less than six months of age (with the exception of neonates) and attending females. The amended permit expires June 30, 2009.

Permit No. 1071-1770-02 issued to Dr. Adam Pack of The Dolphin Institute allows takes of non-listed cetaceans and humpback whales (Megaptera novaeangliae) in the Eastern, Western, and Central North Pacific Ocean. The permit has been amended to allow research of blue whales (Balaenoptera musculus), sperm whales (Physeter macrocephalus), and fin whales (Balaenoptera physalus). The amended permit is valid until August 31, 2010.

In compliance with the National Environmental Policy Act of 1969 (42 U.S.C. 4321 et seq.), an environmental assessment was prepared analyzing the effects of the permitted activities. After a Finding of No Significant Impact, the determination was made that it was not necessary to prepare an environmental impact statement.

Issuance of these amended permits, as required by the ESA, was based on a finding that such amendments: (1) were applied for in good faith; (2) will not operate to the disadvantage of such endangered species; and (3) are consistent with the purposes and policies set forth in section 2 of the ESA.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)944-2280; fax (808)973-2941.

Dated: November 14, 2006.
P. Michael Payne,
Chief, Permits, Conservation and Education Division, Office of Protected Resources, National Marine Fisheries Service.

[FR Doc. E6-19589 Filed 11-17-06; 8:45 am]

BILLING CODE 3510-22-S